GENERAL SERVICES ADMINISTRATION

41 CFR Part 102-5

[FMR Amendment 2010-02; FMR Case 2010-102-4; Docket 2010-0013, Sequence 1]

RIN 3090-AJ05

Federal Management Regulation; Home-to-Work Transportation

AGENCY: Office of Governmentwide Policy, General Services Administration (GSA).

ACTION: Final rule.

SUMMARY: The General Services Administration is amending the Federal Management Regulation (FMR) to clarify existing Home-to-Work Transportation policy. This final rule updates and clarifies who is not covered by 41 CFR part 102-5.

DATES: Effective Date: This final rule is effective on July 20, 2010.

FOR FURTHER INFORMATION CONTACT: For clarification of content, contact Mr. James Vogelsinger, Office of Governmentwide Policy, Office of Travel, Transportation, and Asset Management (MT), (202) 501-1764 or e-mail at james.vogelsinger@gsa.gov. For information pertaining to status or publication schedules contact the Regulatory Secretariat, 1800 F Street, NW., Room 4041, Washington, DC 20405, (202) 501-4755. Please cite FMR case 2010-102-4.

SUPPLEMENTARY INFORMATION:

A. Background

Federal Management Regulation (FMR) part 102-5 was published in the Federal Register on September 12, 2000 (65 FR 54966) to establish policy regarding home-to-work transportation. Section 102-5.20 defines who is not covered by the policy within part 102-5. This final rule clarifies who is not covered by the policy within part 102-5. This final rule also refers readers to section 102-34.210 which addresses when a Government motor vehicle can be used for transportation between places of employment and mass transit facilities.

B. Executive Order 12866

This final rule is excepted from the definition of “regulation” or “rule” under Section 3(d)(3) of Executive Order 12866, Regulatory Planning and Review, dated September 30, 1993 and, therefore, was not subject to review under Section 6(b) of that Executive Order.

C. Regulatory Flexibility Act

This final rule is not required to be published in the Federal Register for notice and comment as per the exemption specified in 5 U.S.C. 553 (a)(2); therefore, the Regulatory Flexibility Act, 5 U.S.C. 601, et seq., does not apply. However, this final rule is being published to provide transparency in the promulgation of Federal policies.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-5

Government property, Home-to-work transportation, Motor vehicles.

Dated: May 25, 2010.
Martha Johnson,
Administrator of General Services.

For the reasons set forth in the preamble, GSA amends 41 CFR part 102-5 as set forth below:

PART 102-5—HOME-TO-WORK TRANSPORTATION

1. The authority citation for 41 CFR part 102-5 is revised to read as follows:

Authority: 40 U.S.C. 121(c); 31 U.S.C. 1344(e)(1).

2. Amend section § 102-5.20 by—

(a) Revising paragraph (a);

(b) Removing paragraph (b);

(c) Redesignating paragraph (c) as paragraph (b);

(d) Removing the period at the end of newly redesignated paragraph (b) and adding “; or” in its place; and

(e) Adding a new paragraph (c).

The revisions read as follows:

§ 102-5.20 Who is not covered by this part?

* * * * *

(a) Employees who use a passenger carrier in conjunction with official travel, including temporary duty (TDY) or relocation;

* * * * *

(c) Employees who use a passenger carrier for transportation between places of employment and mass transit facilities (see, e.g., 41 CFR 102-34.210).

[FR Doc. 2010-17666 Filed 7-19-10; 8:45 am]

BILLING CODE 6820-14-P